NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov, or by telephone to 703-292-7556. Individuals who use a telecommunications device for the deaf (TDD) may call the Federal Information Relay Service (FIRS) at 1-800-877-8339, which is accessible 24 hours a day, 7 days a week, 365 days a year (including Federal holidays).

SUPPLEMENTARY INFORMATION: NSF may not conduct or sponsor a collection of information unless the collection of information displays a currently valid OMB control number and the agency informs potential persons who are to respond to the collection of information that such persons are not required to respond to the collection of information unless it displays a currently valid OMB control number.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to the points of contact in the FOR FURTHER INFORMATION CONTACT section. Request for public comment was previously published March 13, 2024 at 89 FR 18442.

Title of Collection: Grantee Reporting Requirements for NSF SBIR/STTR Program.

OMB Number: 3145-0252.

Type of Request: Reinstatement and request for Office of Management and Budget (OMB) approval of an information collection.

Abstract:

Proposed Project:

This request is for reinstating interim reporting requirements for the NSF Small Business Innovation Research (SBIR)/Small Business Technology Transfer Research (STTR) programs.

The NSF SBIR/STTR programs focus on transforming scientific discovery into products and services with commercial potential and/or societal benefit. Unlike fundamental or basic research activities that focus on scientific and engineering discoveries, the NSF SBIR/STTR programs support the creation of opportunities to move fundamental science and engineering out of the lab and into the market at scale, through startups and small businesses representing deep technology ventures.

The NSF SBIR/STTR programs have two phases: Phase I and Phase II (with an optional Phase IIB as matching supplements). SBIR/STTR Phase I is a 6-12 month experimental or theoretical investigation that allows the awardees to determine the scientific and technical feasibility, as well as the commercial merit of the idea or concept. Phase II further develops the proposed concept, building on the feasibility project undertaken in Phase I, and accelerate the Phase I project to the commercialization stage and enhance the overall strength of the commercial potential. As such, Phase II SBIR/STTR awards have a longer expected period of performance of 24 months.

The NSF SBIR/STTR programs request approval from OMB on the reinstatement of the NSF SBIR/STTR Phase II interim/progress report data collection.

The interim/progress report will be required every six months for the life of the Phase II award. The report collects information on the technical progress of the funded NSF work, which allows managing Program Directors to monitor the project and ensure that the award is in good standing.

The report is divided into 6 sections: (1) Basic Reporting Data, (2) Level of Effort, (3) SBIR-wide Certifications, (4) Cooperative Agreement (NSF-specific Certifications), (5) Technical Narratives, and (6) Project Milestones.

The kinds of data collected from the report include name of the startup company, information on the principal investigator (PI) (name, email address, and phone number), the number of full-time equivalent (FTE) employees working at the startup, amount of funding received during the award period. In addition, information pertaining to company officers and key personnel, their corresponding ownership status, and their levels of efforts provided to the startups are also requested. Collectively, these data will enable the managing Program Directors to (1) evaluate a given company's business structure, (2) ascertain the level of commitment of the PI(s), co-PI(s), and key personnel to the startup venture, and (3) identify conflicts of interests (if any), as part of the due diligence process that the programs undertake to verify that there are no fraudulent or inappropriate business practices.

The report also asks about: inputs (i.e., project expenditures, efforts exerted by key personnel), outputs (i.e., R&D activities, technical progresses), outcomes (i.e., research milestones, fundraising activities), and impacts (i.e., technical and/or commercial successes).

Finally, the report also requests: (1) a discussion of progresses highlighting key technical and commercial activity/results during the reporting period, (2) compliance requirements checklists from the Small Business Administration (SBA) and NSF, and (3) a Gantt chart describing the project status, as well as task assignments to key personnel in the project.

Use of the Information: The data collected will be used primarily for award monitoring. The data could also be used for congressional requests, inquiries from the NSF's Office of the Inspector General, supporting evidence of litigations, auditing, and other legal investigations, NSF internal reports, and program evaluations, if necessary.

Estimate of Burden: The estimated number of respondents is: 410. Average time to complete the interim report: 18 hours. The estimated total burden hours: 7,380 hours per year.

Respondents: The respondents are either PIs or Co-PIs listed on the NSF SBIR/STTR Proposals, Founders, and/or Co-founders of the startups funded by the NSF SBIR/STTR programs.

Dated: May 14, 2024.
Suzanne H. Plimpton,
Reports Clearance Officer, National Science Foundation.

[FR Doc. 2024-10892 Filed 5-16-24; 8:45 am]

BILLING CODE 7555-01-P